DEPARTMENT OF THE INTERIOR

National Park Service

[NPS-WASO-NAGPRA-18274; PPWOCRADN0-PCU00RP15.R50000]

Notice of Intent To Repatriate Cultural Items: Longyear Museum of Anthropology, Colgate University, Hamilton, NY

AGENCY: National Park Service, Interior.

ACTION: Notice.

SUMMARY: The Longyear Museum of Anthropology, in consultation with the appropriate Indian tribes or Native Hawaiian organizations, has determined that the cultural items listed in this notice meet the definition of unassociated funerary objects. Lineal descendants or representatives of any Indian tribe or Native Hawaiian organization not identified in this notice that wish to claim these cultural items should submit a written request to the Longyear Museum of Anthropology. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Longyear Museum of Anthropology at the address in this notice by July 9, 2015.

ADDRESSES: Dr. Jordan Kerber, Longyear Museum of Anthropology, Department of Sociology and Anthropology, Colgate University, 13 Oak Drive, Hamilton, NY 13346, telephone (315) 228-7559, email jkerber@colgate.edu.

SUPPLEMENTARY INFORMATION: Notice is here given in accordance with the Native American Graves Protection and Repatriation Act (NAGPRA), 25 U.S.C. 3005, of the intent to repatriate cultural items under the control of the Longyear Museum of Anthropology, Colgate University, Hamilton, NY, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

At an unknown date, 54 cultural items were removed from one or more unknown Native American graves at one or more unknown locations in Walla Walla County, WA. All of these objects are part of the Hagen Collection in the Longyear Museum of Anthropology and were donated to, or purchased by, the Longyear Museum of Anthropology on an unknown date between 1948 and 1979. The 54 unassociated funerary objects are 53 tubular copper beads (Longyear Museum of Anthropology Index Number 373, Catalog Number A280), which are catalogued as from a “Cayuse Indian grave,” and one copper pendant (Longyear Museum of Anthropology Index Number 377, Catalog Number A284), which is catalogued as from “a Cayuse grave.”

Consultation was initiated on February 11, 2015, by the Longyear Museum of Anthropology with the Confederated Tribes of the Colville Reservation and the Confederated Tribes of the Umatilla Indian Reservation (previously listed as the Confederated Tribes of the Umatilla Reservation, Oregon). On February 25, 2015, the Confederated Tribes of the Colville Reservation notified the Longyear Museum of Anthropology and the Confederated Tribes of the Umatilla Indian Reservation that these 54 unassociated funerary objects are not from their traditional territory and that they therefore deferred to the Confederated Tribes of the Umatilla Indian Reservation concerning the repatriation of the objects. The Confederated Tribes of the Umatilla Indian Reservation submitted to the Longyear Museum of Anthropology a NAGPRA cultural affiliation claim, in the form of a letter and report dated March 13, 2015, requesting to repatriate the 54 unassociated funerary objects.

The information presented in this report indicates that the Walla Walla County area of Washington is an area traditionally and aboriginally used by the Umatilla Tribes and ceded to the U.S. Government following the treaty of 1855. The Umatilla Tribes are direct descendant communities of the Weyíiletpuu (Cayuse), Imatalamláma (Umatilla), and Walúulapam (Walla Walla), Native people who used the lower Snake River and Columbia River since time immemorial, both of which run along the border of Walla Walla County. Enrolled members of the Umatilla Tribes have documented that their ancestors were buried along the lower Snake and Columbia Rivers. These areas have also been important habitation, fishing, hunting, and burial areas in continual use by the Umatilla Tribes. The report further indicates that the 54 unassociated funerary objects are historic, dating within the post-European contact era, or since the early 1800s, and that they are typical of personal items often buried with the deceased.

Determinations Made by the Longyear Museum of Anthropology

Officials of the Longyear Museum of Anthropology have determined that:

• Pursuant to 25 U.S.C. 3001(3)(B), the 54 cultural items described above are reasonably believed to have been placed with or near individual human remains at the time of death or later as part of the death rite or ceremony and are believed, by a preponderance of the evidence, to have been removed from one or more specific burial sites of one or more Native American individuals.

• Pursuant to 25 U.S.C. 3001(2), there is a relationship of shared group identity that can be reasonably traced between the unassociated funerary objects and the Confederated Tribes of the Umatilla Indian Reservation (previously listed as the Confederated Tribes of the Umatilla Reservation, Oregon).

Additional Requestors and Disposition

Lineal descendants or representatives of any Indian tribe or Native Hawaiian organization not identified in this notice that wish to claim these cultural items should submit a written request with information in support of the claim to Dr. Jordan Kerber, Longyear Museum of Anthropology, Department of Sociology and Anthropology, Colgate University, 13 Oak Drive, Hamilton, NY 13346, telephone (315) 228-7559, email jkerber@colgate.edu, by July 9, 2015. After that date, if no additional claimants have come forward, transfer of control of the unassociated funerary objects to the Confederated Tribes of the Umatilla Indian Reservation (previously listed as the Confederated Tribes of the Umatilla Reservation, Oregon) may proceed.

The Longyear Museum of Anthropology is responsible for notifying the Confederated Tribes of the Umatilla Indian Reservation (previously listed as the Confederated Tribes of the Umatilla Reservation, Oregon) that this notice has been published.

Dated: May 6, 2015.
Mariah Soriano,
Acting Manager, National NAGPRA Program.

[FR Doc. 2015-14098 Filed 6-8-15; 8:45 am]

BILLING CODE 4312-50-P